DEPARTMENT OF VETERANS AFFAIRS

Veterans' Advisory Committee on Disability Compensation, Notice of Meeting

The Department of Veterans Affairs (VA) give notice under the Federal Advisory Committee Act that the Advisory Committee on Disability Compensation (the Committee) will meet Tuesday, December 3—Wednesday, December 4, 2019, at 1722 Eye Street, NW, Washington, DC, 20006. The meeting will be held in the Appeals Management Office (AMO) 3rd floor Training Complex. The meeting sessions will begin and end as follows:

Date | Time
December 3, 2019 | 8:30 a.m. to 4:30 p.m.
December 4, 2019 | 8:30 a.m. to 4:30 p.m.

The meeting sessions are open to the public.

The purpose of the Committee is to advise the Secretary of Veterans Affairs on the maintenance and periodic readjustment of the VA Schedule for Rating Disabilities. The Committee is to assemble and review relevant information relating to the nature and character of disabilities arising during service in the Armed Forces, provide an ongoing assessment of the effectiveness of the rating schedule, and give advice on the most appropriate means of responding to the needs of Veterans relating to disability compensation.

On December 3, 2019, the Committee will receive briefings on issues related to compensation benefits for Veterans and transitioning Servicemembers to include National Guard and Reservice components from Office of Transition and Economic Development (TED); Office of Strategic Initiatives and Collaboration (OSIC); and Compensation Service. On December 4, 2019, the Committee will receive briefings on the progress of updating the Veterans Affairs Schedule for Rating Disabilities (VASRD) and an update on the Earnings and Loss Study associated with the VASRD. The afternoon session will include remarks by VA officials on new and ongoing VA initiatives and priorities.

Time will be allocated for receiving public comments. Public comments will be limited to three minutes each. Individuals wishing to make oral statements before the Committee will be accommodated on a first-come, first-served basis. Individuals who speak are invited to submit a 1-2-page summary of their comments at the time of the meeting for inclusion in the official meeting record. This document will be published in the Federal Register at https://federalregister.gov/d/2019-08685, and on govinfo.gov.

The public may submit written statements for the Committee's review to Janice Stewart, Department of Veterans Affairs, Veterans Benefits Administration, Compensation Service, Policy Staff (211C), 810 Vermont Avenue NW, Washington, DC 20420 or email at Janice.Stewart@va.gov. Because the meeting is being held in a government building, a photo I.D. must be presented at the guard's Desk as a part of the screening process. Due to an increase in security protocols, you should arrive 30 minutes prior to the start of the meeting. A routine escort will be provided until 8:10 a.m. each day. Any member of the public wishing to attend the meeting or seeking additional information should email Janice Stewart or call her at (202) 461-9023.

Dated: November 4, 2019.
Jelessa M. Burney,
Federal Advisory Committee Management Officer.

[FR Doc. 2019-24333 Filed 11-6-19; 8:45 am]

BILLING CODE 8320-01-P